DEPARTMENT OF TRANSPORTATION

Federal Aviation Administration

RTCA Special Committee 195: Flight Information Services Communications (FISC)

AGENCY: Federal Aviation Administration (FAA), DOT.

ACTION: Notice of RTCA Special Committee 195 meeting.

SUMMARY: The FAA is issuing this notice to advise the public of a meeting of RTCA Special Committee 195: Flight Information Services Communications (FISC).

DATES: The meeting will be held August 27-28, 2002, starting at 8:30 a.m.

ADDRESSES: The meeting will be held at ALPH Headquarters, 535 Herndon Parkway, Herndon, VA.

FOR FURTHER INFORMATION CONTACT: RTCA Secretariat, 1828 L Street, NW., Washington, DC 20036; telephone (202) 833-9339; fax (202) 883-9434; Web site http://www.rtca.org.

SUPPLEMENTARY INFORMATION: Pursuant to section 10(a)(2) of the Federal Advisory Committee Act (Pub. L. 92-463, 5 U.S.C., Appendix 2), notice is hereby given for a Special Committee 195 meeting. The agenda will include:

• August 27

• Opening Plenary Session (Welcome and Introductory Remarks, Approval of Agenda, Approval of Minutes, Review of Action Items)

• Working Group 1: Aircraft Cockpit Weather Display

• Use of Color Discussion

• Progress on Change 1 to DO-267, Minimum Aviation System Performance Standards (MASPS) for Flight Information Services-Broadcast (FIS-B) Data Link

• Continue Plenary Session

• Review of Product Registry Guidance Draft Document

• Work on DO-267 Change 1

• August 28

• Review of Aerodrome and Airspace Product Specifications

• Review of Proposed Appendix F, Universal Access Transceiver Material

• Working Group 1 Report

• Work on DO-267 Change 1

• Closing Plenary Session (Review Action Items, Discussion of Future Workplan, Other Business, Date and Place of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Dated: Issued in Washington, DC, on August 2, 2002.
Janice L. Peters,
FAA Special Assistant, RTCA Advisory Committee.

[FR Doc. 02-20636 Filed 8-13-02; 8:45 am]

BILLING CODE 4910-13-M